DEPARTMENT OF STATE

22 CFR Parts 121 and 123

[Public Notice 4754]

Z-RIN 1400-ZA-11

Amendment to the International Traffic in Arms Regulations: United States Munitions List and Part 123

AGENCY: Department of State.

ACTION: Final Rule.

SUMMARY. The Department of State, in consultation with the Departments of Defense and Commerce, is amending the text of Category XIV of the United States Munitions List (USML) as published in the Federal Register on November 27, 2002 to clarify the continuity of coverage for equipment and its components, parts, accessories, and attachments specifically designed or modified for military operations and compatibility with military equipment and employed for the dissemination, dispersion or testing of agents controlled by the category.

In addition, to reflect the March 29, 2004 accession to the North Atlantic Treaty Organization (NATO) of seven European countries, section 123.27 of the International traffic in Arms Regulations (ITAR) is being amended to add Bulgaria, Estonia, Latvia, Lithuania, Romania, Slovakia, and Slovenia.

DATES: Effective: July 2, 2004.

ADDRESSES: Interested parties are invited to submit written comments to the Department of State, Directorate of Defense Trade Controls, Office of Defense Trade Controls Policy, ATTN: Regulatory Change, USML Part 121, Category XIV, 12th Floor, SA-1, Washington DC 20522-0112. E-mail comments may be sent to: DTCPResponseTeam@state.gov. Comments will be accepted at any time. Persons with access to the Internet may also view this notice by going to the regulations.gov Web site at: http://www.regulations.gov/index.cfm.

FOR FURTHER INFORMATION CONTACT: Mr. Stephen Tomchik, Office of Defense Trade Controls Policy, Department of State, Telephone (202) 663-2799 or FAX (202) 261-8199. ATTN: Regulatory Change, USML Part 121, Category XIV.

SUPPLEMENTARY INFORMATION: 1. Category XIV. Since the publication on November 27, 2002 (67 FR 70839) of the revision to this category of the USML (22 CFR Part 121), questions have arisen regarding continuity of coverage for equipment and its components, parts, accessories, and attachments specifically designed or modified for military operations and compatibility with military equipment and employed for the dissemination, dispersion, or testing of agents controlled by the category. The text published on November 27 could be misconstrued as a diminution in the scope of controls for such equipment. To clarify that coverage under the USML for such equipment was and remains continuous, paragraph (f)(1) is amended to specify that the control embraces the tear gases and riot control agents specified in paragraph (d) and the defoliants specified in paragraph (e) of Category XIV.

2. Section 123. On March 29, 2004 seven European countries deposited in Washington, DC the instruments of accession by which those countries became formal members of the North Atlantic Treaty Organization (NATO). The seven countries in question are Bulgaria, Estonia, Latvia, Lithuania, Romania, Slovakia, and Slovenia. Accordingly, ITAR section 123.27 (22 CFR 123.27) is being amended to add these countries to the enumerated list of NATO allies of the United States.

Regulatory Analysis and Notices

This amendment involves a foreign affairs function of the United States and, therefore, is not subject to the procedures required by 5 U.S.C. 553 and 554. It is exempt from review under Executive Order 12866 but has been reviewed internally by the Department of State to ensure consistency with the purposes thereof. This rule does not require analysis under the Regulatory Flexibility Act or the Unfunded Mandates Reform Act. It has been found not to be a major rule within the meaning of the Small Business Regulatory Enforcement Act of 1996. It will not have substantial direct effects on the States, the relationship between the National Government and the States, or on the distribution of power and responsibilities among the various levels of government. Therefore, it is determined that this rule does not have sufficient federalism implications to warrant application of consultation provisions of Executive Orders 12372 and 13132.

List of Subjects in 22 CFR Parts 121 and 123

Arms and munitions, Exports.

Accordingly, for the reasons set forth above, Title 22, Chapter I, Subchapter M, Parts 121 and 123 are amended as follows:

PART 121—THE UNITED STATES MUNITIONS LIST

1. The authority citation for Part 121 continues to read as follows:

Authority: Sec. 2, 38, and 71, Pub. L. 90-629, 90 Stat. 744 (22 U.S.C. 2752, 2278, 2797); E.O. 11958, 42 FR 4311; 3 CFR 1977 Comp. p. 79; 22 U.S.C. 2658; Pub. L. 105-261, 112 Stat. 1920.

2. In § 121.1, Category XIV—Toxicological Agents, Including Chemical Agents, Biological Agents, and Associated Equipment is amended by revising paragraphs (f) introductory text and (f)(1) to read as follows:

§ 121.1 General. The United States Munitions List.

* * * * *

Category XIV—Toxicological Agents, Including Chemical Agents, Biological Agents, and Associated Equipment

* * * * *

*(f) Equipment and its components, parts, accessories, and attachments specifically designed or modified for military operations and compatibility with military equipment as follows:

(1) The dissemination, dispersion or testing of the chemical agents, biological agents, tear gases and riot control agents, and defoliants listed in paragraphs (a), (b), (d), and (e), respectively, of this category;

* * * * *

PART 123—LICENSES FOR THE EXPORT OF DEFENSE ARTICLES

3. The authority citation for part 123 continues to read as follows:

Authority: Secs. 2, 38, and 71, Pub. L. 90-629, 90 Stat. 744 (22 U.S.C. 2752, 2778, and 2797); 22 U.S.C. 2753; E.O. 11958, 42 FR 4311; 3 CFR, 1977 Comp. p. 79; 22 U.S.C. 2658; Pub. L. 105-261, 112 Stat. 1920.

4. Section 123.27 is amended by revising paragraph (a)(1) to read as follows:

§ 123.27 Special licensing regime for export to U.S. allies of commercial communications satellite components, systems, parts, accessories, attachments and associated technical data.

(a) * * *

(1) The proposed exports or re-exports concern exclusively one or more countries of the North Atlantic Treaty Organization (Belgium, Bulgaria, Canada, Czech Republic, Denmark, Estonia, France, Germany, Greece, Hungary, Iceland, Italy, Latvia, Lithuania, Luxembourg, The Netherlands, Norway, Poland, Portugal, Romania, Slovakia, Slovenia, Spain, Turkey, United Kingdom, and the United States) and/or one or more countries which have been designated in accordance with section 517 of the Foreign Assistance Act of 1961 as a major non-NATO ally (and as defined further in section 644(q) of that Act) for purposes of that Act and the Arms Export Control Act (Argentina, Australia, Bahrain, Egypt, Israel, Japan, Jordan, Kuwait, New Zealand, the Philippines, Thailand, and the Republic of Korea).

* * * * *

Dated: June 14, 2004.
John R. Bolton,
Under Secretary, Arms Control and International Security, Department of State.

[FR Doc. 04-15097 Filed 7-1-04; 8:45 am]

BILLING CODE 4710-25-P